DEPARTMENT OF ENERGY

Federal Energy Regulatory Commission

[Project No. 2100-052-California]

California Department of Water Resources; Notice of Designation of Certain Commission Personnel as Non-Decisional

June 29, 2004.

Commission staff member Elizabeth Molloy was assigned to help resolve environmental and related issues associated with development of a comprehensive settlement agreement for the Oroville Project. The parties anticipate completing the comprehensive settlement agreement and filing an offer of settlement by January 31, 2005.

As a “non-decisional” staff, Ms. Molloy will take no part in the Commission's review of the offer of settlement and the comprehensive settlement agreement, or deliberations concerning the disposition of the relicense application.

Different Commission “advisory staff” will be assigned to review the offer of settlement, the comprehensive settlement agreement, and process the relicense application, including providing advice to the Commission with respect to the agreement and the application. Non-decisional staff and advisory staff are prohibited from communicating with one another concerning the settlement and the relicense application.

Linda Mitry,
Acting Secretary.

[FR Doc. E4-1518 Filed 7-9-04; 8:45 am]

BILLING CODE 6717-01-P